DEPARTMENT OF HOUSING AND URBAN DEVELOPMENT

[Docket No. FR-5376-N-119]

Notice of Submission of Proposed Information Collection to OMB; Emergency Comment Request Transformation Initiative: Sustainable Communities Research Grant Program; Notice of Proposed Information Collection for Public Comment

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

The purpose of this notice is to inform potential applicants that the Office of Policy Development and Research (PD&R) of the Department of Housing and Urban Development (HUD) is interested in receiving preliminary applications for grants to support research activities focusing on sustainability issues.

Grantees are selected through a competitive process, announced through a Notice of Funding Availability. Applicants are required to submit certain information as part of their application for assistance. Grantees are required to prepare a quarterly status report so that HUD monitors the progress of grantees in completing their research.

DATES: Comments Due Date: December 23, 2010.

ADDRESSES: Interested persons are invited to submit comments regarding this proposal. Comments must be received within fourteen (14) days from the date of this Notice. Comments should refer to the proposal by name/or OMB approval number and should be sent to: Ross A. Rutledge, HUD Desk Officer, Office of Management and Budget, New Executive Office Building, Washington, DC 20503; e-mail: Ross.A.Rutledge@omb.eop.gov; fax: 202-395-3086.

FOR FURTHER INFORMATION CONTACT: Colette Pollard, Departmental Reports Management Officer, QDAM, Department of Housing and Urban Development, 451 7th Street, SW., Washington, DC 20410; e-mail Colette.Pollard@HUD.gov; telephone (202) 402-3400. This is not a toll-free number. Copies of available documents submitted to OMB may be obtained from Ms. Pollard.

SUPPLEMENTARY INFORMATION: The purpose of this notice is to inform potential applicants that the Office of Policy Development and Research (PD&R) of the Department of Housing and Urban Development (HUD) is interested in receiving preliminary applications for grants to support research activities focusing on sustainability issues.

Grantees are selected through a competitive process, announced through a Notice of Funding Availability. Applicants are required to submit certain information as part of their application for assistance. Grantees are required to prepare a quarterly status report so that HUD monitors the progress of grantees in completing their research.

This Notice Also Lists the Following Information

Title of Proposal: Sustainable Communities Research Grant Program.

Description of Information Collection: To select grantees during the application process and to monitor all grantee's performance.

OMB Control Number: Pending.

Agency Form Numbers: 424-cb, SF-424supp, 2880, SF424, SF-LLL.

Members of Affected Public: Private Sector.

Estimation of the Total Numbers of Hours Needed to Prepare the Information Collection Including Number of Respondents, Frequency of Responses, and Hours of Response:

(1) Pre-Award:

HUD estimates that each applicant spends approximately 42 person-hours to complete an application. Almost all of this time is invested by a professor or other senior administrator who would oversee the program. HUD estimates the mean hourly rate at $30. For 20 applications, the computation is as follows: 20 applications × 42 hours × $30 per hours = $25,200.

(2) Post-Award:

HUD estimates that each grantee will spend approximately 6 hours a year maintaining records. HUD also estimates that each grantee will spend approximately 4 hours a year preparing monitoring reports. Clerical staff and faculty/supervisory staff will share this burden. HUD estimates the applicable hourly rate at $15. The computation is as follow: 5 grantees × 10 hours × $15 an hour = $750.

Description of information collection | Number of respondents | Responses per year | Total annual responses | Hours per response | Total hours
SF424 | 20 | 1 | 20 | 0.75 | 15
SF424 Supplement | 20 | 1 | 20 | 0.08 | 1.6
HUD 424CB | 20 | 1 | 20 | 3 | 60
SFLLL | 20 | 1 | 20 | 0.17 | 3.4
HUD 2880 (2510-0011) | 20 | 1 | 20 | 0 | 0
HUD 96010 (2535-0114) | 20 | 1 | 20 | 3 | 60
Rating factor 1 | 20 | 1 | 20 | 7 | 140
Rating factor 2 | 20 | 1 | 20 | 7 | 140
Rating factor 3 | 20 | 1 | 20 | 7 | 140
Rating factor 4 | 20 | 1 | 20 | 7 | 140
Rating factor 5 | 20 | 1 | 20 | 7 | 140
Subtotal (Application) | 20 | 1 | 20 | 42 | 840
Quarterly Reports | 5 | 4 | 20 | 6 | 120
Recordkeeping | 5 |  | 5 | 4 | 20
Total | 20 |  | 40 | Varies | 980

Authority: The Paperwork Reduction Act of 1995, 44 U.S.C. chapter 35, as amended.

Dated: December 3, 2010.
Colette Pollard,
Departmental Reports Management Officer, Office of the Chief Information Officer.

[FR Doc. 2010-30977 Filed 12-8-10; 8:45 am]

BILLING CODE 4210-67-P